DEPARTMENT OF ENERGY

Federal Energy Regulatory Commission

Combined Notice of Filings #2

Take notice that the Commission received the following electric rate filings:

Docket Numbers: ER10-1537-001; ER10-1553-001; ER10-1538-001; ER10-1539-001; ER10-1540-001; ER10-1531-001.

Applicants: Entergy Nuclear Generation Company, Entergy Nuclear Power Marketing, LLC, Entergy Nuclear Vermont Yankee, LLC, Entergy Nuclear Fitzpatrick, LLC, Entergy Nuclear Indian Point 2, LLC, Entergy Nuclear Indian Point 3, LLC.

Description: Supplemental Information of Entergy Nuclear Fitzpatrick, LLC, et al.

Filed Date: 2/1/12.

Accession Number: 20120201-5255.

Comments Due: 5 p.m. ET 2/13/12.

Docket Numbers: ER12-543-001.

Applicants: Ethical Electric Benefit Co.

Description: Ethical Electric Benefit Co. Market Based Rate Filing—Clone to be effective 12/6/2011.

Filed Date: 2/2/12.

Accession Number: 20120202-5000.

Comments Due: 5 p.m. ET 2/23/12.

Docket Numbers: ER12-768-001.

Applicants: Cleco Evangeline LLC.

Description: Compliance Filing to be effective 1/1/2012.

Filed Date: 2/2/12.

Accession Number: 20120202-5001.

Comments Due: 5 p.m. ET 2/23/12.

Docket Numbers: ER12-862-000.

Applicants: Power Supply Services LLC.

Description: Supplement to Application for Market-Based Rate Authority and Approval of Waivers and Blanket Authorization.

Filed Date: 2/1/12.

Accession Number: 20120201-5249.

Comments Due: 5 p.m. ET 2/22/12.

Docket Numbers: ER12-975-000.

Applicants: Cleco Evangeline LLC.

Description: Change to Add Ancillary Services to be effective 1/10/2012.

Filed Date: 2/2/12.

Accession Number: 20120202-5002.

Comments Due: 5 p.m. ET 2/23/12.

Docket Numbers: ER12-977-000.

Applicants: Avista Corporation.

Description: Service Agreement No. T1110—Construction Agreement to be effective 2/3/2012 under ER12-977 Filing Type: 20.

Filed Date: 2/2/12.

Accession Number: 20120202-5069.

Comments Due: 5 p.m. ET 2/23/12.

Docket Numbers: ER12-978-000.

Applicants: Michigan Electric Transmission Company.

Description: Filing of Certificate of Concurrence to be effective 2/1/2012.

Filed Date: 2/2/12.

Accession Number: 20120202-5071.

Comments Due: 5 p.m. ET 2/23/12.

Docket Numbers: ER12-979-000.

Applicants: Rocky Ridge Wind Project, LLC.

Description: Rocky Ridge Wind Project MBR Filing to be effective 3/1/2012.

Filed Date: 2/2/12.

Accession Number: 20120202-5079.

Comments Due: 5 p.m. ET 2/23/12.

Take notice that the Commission received the following land acquisition reports:

Docket Numbers: LA11-4-000.

Applicants: Enel Green Power North America, Inc., Canastota Windpower, LLC, Caney River Wind Project, LLC, EGP Stillwater Solar, LLC, Enel Stillwater, LLC, Smoky Hills Wind Farm, LLC, Smoky Hills Wind Project II, LLC.

Description: Quarterly Land Acquisition Report of Enel Green Power North America, Inc.

Filed Date: 2/2/12.

Accession Number: 20120202-5058.

Comments Due: 5 p.m. ET 2/23/12.

Take notice that the Commission received the following public utility holding company filings:

Docket Numbers: PH12-7-000.

Applicants: IIF US Holding 1 GP, LLC.

Description: Notification of Material Change in Facts and Update of FERC 65-A of IIF US Holding 1 GP, LLC.

Filed Date: 2/2/12.

Accession Number: 20120202-5059.

Comments Due: 5 p.m. ET 2/23/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2012.
Nathaniel J. Davis, Sr.,
Deputy Secretary.

[FR Doc. 2012-2945 Filed 2-8-12; 8:45 am]

BILLING CODE 6717-01-P